NUCLEAR REGULATORY COMMISSION

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a current valid OMB control number.

1. Type of submission, new, revision, or extension: Extension.

2. The title of the information collection: NRC Form 313, “Application for Material License”; and NRC Form 313A, “Training and Experience and Preceptor Statement.”

3. The form number if applicable: NRC Form 313 and NRC Form 313A.

4. How often the collection is required: There is a one-time submittal of information to receive a license. Once a specific license has been issued, there is a 10-year resubmittal of the information for renewal of the license.

5. Who will be required or asked to report: All applicants requesting a license for byproduct or source material.

6. An estimate of the number of responses: 3074 new, amendment, and renewal applications to NRC; 12,840 new, amendment, and renewal applications to Agreement States, for a total of 15,914 responses.

7. The estimated number of annual respondents: 15,914 (3,074 NRC licensees + 12,840 Agreement State licensees).

8. An estimate of the number of hours needed annually to complete the requirement or request: 70,022 (13,526 hours for NRC licensees and 56,496 hours for Agreement State licensees).

9. An indication of whether Section 3507(d), Pub. L. 104-13 applies: Not applicable.

10. Abstract: Applicants must submit NRC Forms 313 and 313A to obtain a specific license to possess, use, or distribute byproduct or source material. The information is reviewed by the NRC to determine whether the applicant is qualified by training and experience, and has equipment, facilities, and procedures which are adequate to protect the public health and safety, and minimize danger to life or property.

A copy of the final supporting statement may be viewed free of charge at the NRC Public Document Room, One White Flint North, 11555 Rockville Pike, Room O-1 F23, Rockville, MD 20852. OMB clearance requests are available at the NRC worldwide Web site: http://www.nrc.gov/public-involve/doc-comment/omb/index.html. The document will be available on the NRC Home page site for 60 days after the signature date of this notice.

Comments and questions should be directed to the OMB reviewer listed below by October 11, 2005. Comments received after this date will be considered if it is practical to do so, but assurance of consideration cannot be given to comments received after this date. John Asalone, Office of Information and Regulatory Affairs (3150-0120), NEOB-10202, Office of Management and Budget, Washington, DC 20503.

Comments can also be e-mailed to John_A._Asalone@omb.eop.gov or submitted by telephone at (202) 395-4650.

The NRC Clearance Officer is Brenda Jo Shelton, 301-415-7233.

Dated at Rockville, Maryland, this 1st day of September, 2005.
For the Nuclear Regulatory Commission.
Beth St. Mary,
Acting NRC Clearance Officer, Office of Information Services.

[FR Doc. E5-4877 Filed 9-7-05; 8:45 am]

BILLING CODE 7590-01-P